DEPARTMENT OF COMMERCE

Minority Business Development Agency

Agency Information Collection Activities; Submission to the Office of Management and Budget (OMB) for Review and Approval; Comment Request; Capital Readiness Program Online Customer Relationship Management (CRM)/Performance Databases

AGENCY: Minority Business Development Agency (MBDA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before December 19, 2023.

ADDRESSES: Interested persons are invited to submit written comments by email to Minority Business Development Agency PRA Officer at PRAcomments@doc.gov. Do not submit Confidential Business Information or otherwise sensitive or protected information.

FOR FURTHER INFORMATION CONTACT: Requests for additional information or specific questions related to collection activities should be directed to Amit Patel, Program Director, Minority Business Development Agency, Room 5095F, 1401 Constitution Avenue NW, Washington, DC 20230, (202) 880-4457 or apatel@mbda.gov.

SUPPLEMENTARY INFORMATION:

I. Abstract

In 2023, MBDA awarded cooperative agreements under the Notice of Funding Opportunity for the MBDA Capital Readiness Program. In accordance with the Government Performance and Results Act/Modernization Act (GPRA/MA), and the Foundations for Evidence-based Policymaking Act of 2018 (Evidence Act), MBDA requires all award recipients to report basic participant information, service activities and progress on attainment of program goals via the Online CRM/Performance Database. The data inputs into the Online CRM/Performance Database originate from progress report forms used by each awardee to collect information about each participant that receives technical assistance services under the Capital Readiness Program. This data provides the baseline from which the Online CRM/Performance Database is populated. The Online CRM/Performance Database is used to regularly monitor and evaluate the progress of the MBDA programs, to provide the Department and OMB with a summary of the quantitative any information required to be submitted about government supported programs, to implement the GPRA/MA, conduct program evaluation in support of the Evidence Act. This information may also be summarized and included in the MBDA Annual Performance Report, which is made available to the public. The MBDA technical assistance programs continue to use the Online CRM/Performance Database. The client transaction and verification forms will be used to collect information about the effectiveness of the programs funded by the agency. The forms include a statement regarding MBDA's intended use and transfer of the information collected to other federal agencies for the purpose of conducting research and studies on minority and underserved businesses.

II. Method of Collection

Information will be collected manually and electronically.

III. Data

OMB Control Number: New collection.

Form Number(s): None.

Type of Review: Regular submission.

Affected Public: Individuals or households; Business or other for-profit organizations; Not-for-profit institutions.

Estimated Number of Respondents: 43.

Estimated Time per Response: 15 min.

Estimated Total Annual Burden Hours: 6,250.

Estimated Total Annual Cost to Public: $0.

Respondent's Obligation: Mandatory.

Legal Authority: The statutory authority for the MBDA Capital Readiness Program is 3009(e)(2) of the Small Business Jobs Act of 2010, as amended by the American Rescue Plan Act of 2021 (ARP) (codified at 12 U.S.C. 5708(e)(2)). MBDA's programmatic authority is 15 U.S.C. 9501-9598.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-22093 Filed 10-19-23; 8:45 am]

BILLING CODE 3510-21-P